DEPARTMENT OF ENERGY

Federal Energy Regulatory Commission

Combined Notice of Filings #1

Take notice that the Commission received the following electric rate filings:

Docket Numbers: ER10-2905-001.

Applicants: Scotia Capital Energy Inc.

Description: Notice of Succession to be effective 11/29/2012.

Filed Date: 11/28/12.

Accession Number: 20121128-5111.

Comments Due: 5 p.m. ET 12/19/12.

Docket Numbers: ER10-2179-013; ER10-2181-013; ER10-2182-013.

Applicants: R.E. Ginna Nuclear Power Plant, LLC, Calvert Cliffs Nuclear Power Plant, LLC, Nine Mile Point Nuclear Station, LLC.

Description: Supplement to July 6, 2012 Notice of Non-Material Change in Status of Nine Mile Point Nuclear Station, LLC, et al.

Filed Date: 11/20/12.

Accession Number: 20121120-5080.

Comments Due: 5 p.m. ET 12/10/12.

Docket Numbers: ER12-2654-003.

Applicants: Netsales & Arts, Inc.

Description: mbr_tar to be effective 9/30/2012.

Filed Date: 11/28/12.

Accession Number: 20121128-5161.

Comments Due: 5 p.m. ET 12/19/12.

Docket Numbers: ER13-469-000.

Applicants: Southwest Power Pool, Inc.

Description: 2501 Waverly Wind Farm, LLC GIA to be effective 11/14/2012.

Filed Date: 11/28/12.

Accession Number: 20121128-5158.

Comments Due: 5 p.m. ET 12/19/12.

Docket Numbers: ER13-470-000.

Applicants: Midwest Independent Transmission System Operator, Inc.

Description: 11-28-12 Carved-Out GFA Filing to be effective 1/28/2013.

Filed Date: 11/28/12.

Accession Number: 20121128-5160.

Comments Due: 5 p.m. ET 12/19/12.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 29, 2012.
Nathaniel J. Davis, Sr.,
Deputy Secretary.

[FR Doc. 2012-29579 Filed 12-6-12; 8:45 am]

BILLING CODE 6717-01-P